FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 7, 2017.

A. Federal Reserve Bank of Dallas (Robert L. Triplett III, Senior Vice President) 2200 North Pearl Street, Dallas, Texas 75201-2272:

1. J. Edgerton Pierson, Jr. and the Jim Pierson Revocable Grantor Trust, both of Shreveport, Louisiana; to retain voting shares of City Bancshares, Inc., Natchitoches, Louisiana; and Virginia T. Pierson, Mary Lou Pierson Brown, Phillip G. Brown, each of Natchitoches, Louisiana, Patricia Pierson McAlpine, Kingwood, Texas, and J. Edgerton Pierson, Jr.; as a group acting in concert to collectively retain voting shares of City Bancshares, Inc., Natchitoches, Louisiana and thereby, indirectly retain shares of City Bank & Trust Company, Natchitoches, Louisiana.

Board of Governors of the Federal Reserve System, November 17, 2017.
Ann E. Misback,
Secretary of the Board.

[FR Doc. 2017-25338 Filed 11-22-17; 8:45 am]

BILLING CODE P